DEPARTMENT OF THE INTERIOR

Fish and Wildlife Service

Notice of Receipt of Applications for Endangered Species Recovery Permit

AGENCY: Fish and Wildlife Service, Interior.

ACTION: Notice of receipt of permit applications.

SUMMARY: The following applicants have applied for a scientific research permit to conduct certain activities with endangered species pursuant to section 10(a)(1)(A) of the Endangered Species Act of 1973, as amended (16 USC 1531 et seq.). The U.S. Fish and Wildlife Service solicits review and comment from local, State, and Federal agencies, and the public on the following permit requests.

[Permit No. TE-053379]

Applicant: Christine Mukai, Irvin, California

The applicant requests a permit to take (survey by pursuit) the Quino checkerspot butterfly (Euphydryas editha quino) in conjunction with demographic studies in Riverside, San Diego, San Bernardino, Orange, Los Angeles, Santa Barbara, and Ventura Counties, California for the purpose of enhancing its survival.

[Permit No. TE-053605]

Applicant: University of Colorado, Ft. Collins, Colorado

The applicant requests a permit to take (reduce to possession) the Asplenium fragile var. insulare (fragile fern), the Haplostachys haplostachya (honohono, Hawaiian mint), the Hedyotis coriacea (kio'ele, leather leaf sweet ear), the Isodendrion laurifolium (Aupaka), the Neraudia ovata (ma'aloa ma'aloa, spotted nettle brush), the Portulaca sclerocarpa (ihi, hard fruit purslane), the Silene hawaiiensis (Hawaiian catchfly), the Silene lanceolata (lanceleaf catchfly), the Solanum incompletum (popolu ku mai), the Spermolepis hawaiiensis (Hawaiian parsley), the Stenogyne angustifolia (creeping mint), the Tetramolopium arenarium (Mauna Kea pamakani), and the Zanthoxylum hawaiiense (hea'e a'e, Hawaiian yellow wood) in conjunction with species documentation surveys on the Big Island of Hawaii for the purpose of enhancing their survival.

[Permit No. TE-053598]

Applicant: Nicole Shorey, San Diego, California

The applicant requests a permit to take (survey by pursuit) the Quino checkerspot butterfly (Euphydryas editha quino) in conjunction with demographic studies in San Diego County, California for the purpose of enhancing its survival.

[Permit No. TE-789266]

Applicant: Patricia Campbell, Temecula, California

The permittee requests a permit amendment to take (harass by survey) the southwestern willow flycatcher (Empidonax traillii extimus) in San Diego, Los Angeles, Imperial, Orange, Riverside, Inyo, Kern, San Bernardino, San Luis Obispo, Ventura, and Santa Barbara Counties, California in conjunction with surveys for the purpose of enhancing its survival.

[Permit No. TE-053924]

Applicant: Todd Sloat, McArthur, California

The applicant requests a permit to take (harass by survey) the southwestern willow flycatcher (Empidonax traillii extimus) in San Diego, Los Angeles, Imperial, Orange, Riverside, Kern, San Bernardino, San Luis Obispo, Ventura, and Santa Barbara Counties, California and Yuma, La Paz, and Mohave Counties, Arizona in conjunction with surveys for the purpose of enhancing its survival.

[Permit No. TE-053928]

Applicant: San Diego State University Foundation, San Diego, California

The applicant requests a permit to take (reduce to possession) the Nitrophila mohavensis (Amargosa niterwort) and the Centaurium namophilum namophilum (spring-loving centaury) in Inyo County, California in conjunction with species research for the purpose of enhancing their survival.

[Permit No. TE-053777]

Applicant: David Bise, Pasadena, California

The applicant requests a permit to take (harass by survey) the southwestern willow flycatcher (Empidonax traillii extimus) and take (survey by pursuit) the Quino checkerspot butterfly (Euphydryas editha quino) in San Diego, Los Angeles, Orange, Riverside, San Bernardino, and Ventura Counties, California in conjunction with surveys for the purpose of enhancing their survival.

[Permit No. TE-040531]

Applicant: Kelly Volansky, Riverside, California

The permittee requests a permit amendment to take (harass by survey) the southwestern willow flycatcher (Empidonax traillii extimus) throughout its range in Arizona, and the cactus ferruginous pygmy-owl (Glaucidium brasilianum cactorum) in Pima, Pinal, and Maricopa Counties, Arizona in conjunction with surveys for the purpose of enhancing their survival.

[Permit No. TE-054120]

Applicant: Russell Huddleston, Sacramento, California

The applicant request a permit to take (harass by survey, collect, and sacrifice) the Conservancy fairy shrimp (Branchinecta conservatio), the longhorn fairy shrimp (Branchinecta longiantenna), the San Diego fairy shrimp (Branchinecta sandiegonensis), the vernal pool tadpole shrimp (Lepidurus packardi), and the Riverside fairy shrimp (Streptocephalus wootoni) throughout the range of each species in conjunction with surveys for the purpose of enhancing their survival.

DATES: Written comments on these permit applications must be received within 30 days of the date of publication of this notice.

ADDRESSES: Written data or comments should be submitted to the Chief, Endangered Species, Ecological Services, U.S. Fish and Wildlife Service, 911 NE. 11th Avenue, Portland, Oregon 97232-4181; Fax: (503) 231-6243. Please refer to the respective permit number for each application when submitting comments. All comments received, including names and addresses, will become part of the official administrative record and may be made available to the public.

FOR FURTHER INFORMATION CONTACT: Documents and other information submitted with these applications are available for review, subject to the requirements of the Privacy Act and Freedom of Information Act, by any party who submits a written request for a copy of such documents within 20 days of the date of publication of this notice to the address above; telephone: (503) 231-2063. Please refer to the respective permit number for each application when requesting copies of documents.

Dated: March 20, 2002.
Rowan W. Gould,
Acting Regional Director, Region 1, Portland, Oregon.

[FR Doc. 02-8109 Filed 4-3-02; 8:45 am]

BILLING CODE 4310-55-P